DEPARTMENT OF TRANSPORTATION

Office of the Secretary; North American Free Trade Agreement Conference

AGENCY: Office of the Secretary, DOT.

ACTION: Notice.

SUMMARY: This notice (1) announces a DOT-sponsored North American Free Trade Agreement (NAFTA) information conference, to be held at the Westin Riverwalk Hotel in San Antonio, Texas, May 29-31, 2002, (2) provides information about the conference for prospective attendees; and (3) identifies a dedicated website that will provide continuously updated information about the conference including registration information. U.S., Canadian, and Mexican government officials representing agencies that have inspection, security and other defined responsibilities affecting the clearance of cross-border transport operations will conduct panel sessions that convey information about their agency requirements affecting the operations of commercial truck and bus companies engaged in cross-border operations. This conference was originally scheduled to take place in October 2001, but was postponed following the terrorist attacks on the United States on September 11, 2001.

Background

Since 1982, the operation of most Mexican motor carriers in the United States has been limited by a statutory moratorium on DOT's granting of authority to those carriers to operate outside the commercial zones along the U.S.—Mexico border. The North American Free Trade Agreement (NAFTA) created a timetable for the gradual lifting of that moratorium over six years from entry into force of the agreement, and it provided for liberalizing investment restrictions on trucking companies established in Mexico and the United States. Liberalized access was to have begun in 1995, but the United States postponed implementation due to safety concerns. A NAFTA dispute resolution panel subsequently ruled that the U.S. blanket prohibition on processing Mexican motor carrier applications for authority to operate throughout the United States violated the NAFTA.

Since 1995, the United States has taken steps to augment its ability to assure compliance with U.S. motor carrier safety regulations. In addition, as part of DOT's FY-2002 appropriations act, the Congress specified a number of actions that the Department must take prior to processing Mexican motor carrier applications for authority to operate throughout the United States. In anticipation of a Presidential order lifting the moratorium, the Department is currently taking steps to comply with the provisions of the appropriations act and expects to be ready to process Mexican motor carrier applications for authority to operate throughout the United States by June 30, 2002. All foreign motor carriers operating in the United States are subject to the same federal and state regulations and procedures that apply to U.S. carriers. These include safety regulations, insurance requirements, tariff requirements, and payment of all taxes and fees. In addition, foreign motor carriers and drivers must comply with applicable customs and immigration laws and regulations. Under the NAFTA, these compliance obligations are completely reciprocal so that U.S. carriers and drivers are similarly obligated to comply with Canadian and Mexican statutory and regulatory requirements while conducting operations in those countries.

While U.S. and Canadian carriers have been conducting operations in each other's respective countries for some time, Mexican motor carriers will be operating in the United States for the first time once the NAFTA's access provisions are implemented. Similarly, operations into Mexico will be a new experience for most U.S. and Canadian motor carriers. The many federal and state regulatory requirements and the multiplicity of federal and state agencies imposing them may be confusing and intimidating to these first-time entrants and could discourage them from attempting to take advantage of the NAFTA's transportation provisions. For this reason, the Department of Transportation, in cooperation with Canada, Mexico, and other federal agencies will host a NAFTA information conference in San Antonio, Texas, May 29-31, 2002 to promote an understanding of the requirements for legal cross-border motor carrier operations among the three NAFTA countries. The Department will be assisted in preparing for the conference by the Free Trade Alliance San Antonio.

Who Should Attend

This conference will be beneficial for government lawyers, commercial truck carriers, bus operators, customs brokers, shippers, and other companies and/or associations that have an interest in the conduct of cross-border business that will involve transport operations.

Meetings and Deadlines

The NAFTA conference will include panels that convey information about: (1) Applying for federal motor carrier operating authority; (2) immigration requirements for drivers operating outside of their own country; (3) Customs requirements for foreign trucks engaged in international operations; (4) agriculture regulations applicable to imported commodities; (5) tax obligations for companies operating commercial vehicles outside their own country; (6) motor carrier safety standards; (7) hazardous materials transportation safety regulations; (8) vehicle weight and dimensions standards; and other requirements. Other panels may be added as preparations for the conference progress. Representatives from the various agencies will be available following panel discussions to address questions from conference attendees. Finally, each attendee will be provided a resource book from each country containing additional information, contact names, e-mail and phone numbers that may be used to obtain additional information.

Languages

All conference sessions will be conducted either in English or Spanish with simultaneous translation. To the extent possible, agency representatives who address specific questions from attendees outside the formal panel sessions will be bilingual.

Updated Information and Hotel Registration

To provide a continuous source of updated conference information, the Department of Transportation's Office of International Transportation & Trade has established a Web site for prospective attendees and other interested parties. The DOT Web site will contain an updated schedule of events, guest speakers, and agendas for the panel sessions as they are developed. The Web site can be accessed by going to the DOT homepage at www.dot.gov/NAFTA.

The DOT Web site also has a link to the Free Trade Alliance San Antonio's Web site, where a registration form for the conference can be accessed and completed online. Registration forms can also be downloaded from the Web site and completed manually. Forms completed manually should be returned to the Free Trade Alliance, 203 South St. Mary's Street, Suite 130, San Antonio, Texas 78205, or faxed to 210-229-9724. Registration forms and information about the conference, hotel accommodations, and the city of San Antonio can also be obtained by writing to the Free Trade Alliance or by telephoning 210-229-9036.

All participants are requested to fill out a conference registration form. A block of rooms has been reserved at the Westin Riverwalk Hotel, 420 West Market Street, San Antonio, Texas 78205. Interested parties can contact the hotel by telephone at 210-224-6500 or by fax at 210-444-6000. Further information about accommodations can be found on the Free Trade Alliance Web site at www.freetradealliance.org.

Address and Phone Numbers

For further information please contact Eddie Carazo, U.S. Department of Transportation, OST/X-20, Room 10300, 400 Seventh Street, SW., Washington, DC 20590, telephone (202) 366-2892, or fax (202) 366-7417.

Dated: February 28, 2002.
Bernestine Allen,
Director, Office of International Transportation and Trade.

[FR Doc. 02-5625 Filed 3-7-02; 8:45 am]

BILLING CODE 4910-62-P